DEPARTMENT OF HEALTH AND HUMAN SERVICES

National Institutes of Health

National Cancer Institute; Amended Notice of Meeting

Notice is hereby given of a change in the meeting of the National Cancer Institute Special Emphasis Panel, March 10, 2004, 8 a.m. to March 11, 2204, 6 p.m., Bethesda Marriott, 5151 Pooks Hill Road, Bethesda, MD 20814 which was published in the Federal Register on February 25, 2004, 69 FR 8671-8672.

The meeting is being amended to correct the year from 2204 to 2004. The meeting is closed to the public.

Dated: March 5, 2004.
LaVerne Y. Stringfield,
Director, Office of Federal Advisory Committee Policy.

[FR Doc. 04-5538 Filed 3-10-04; 8:45 am]

BILLING CODE 4140-01-M